AGENCY FOR INTERNATIONAL DEVELOPMENT

48 CFR Parts 715 and 742

[AIDAR Circular 00-1]

RIN 0412-AA44

Contractor Performance Evaluation

Correction

In rule document 00-13486 appearing on page 36642 in the issue of Friday, June 9, 2000, make the following corrections:

1. In the first column, under the heading FOR FURTHER INFORMATION CONTACT:, seven lines down, “partperformance@usaid.gov” should read “pastperformance@usaid.gov”.

2. In the second column, two lines from the bottom, “officer” should read “office”.

[FR Doc. C0-13486 Filed 6-23-00; 8:45 am]

BILLING CODE 1505-01-D

OFFICE OF PERSONNEL MANAGEMENT

48 CFR Part 1652

RIN 3206 AI67

Federal Employees Health Benefits (FEHB) Program and Department of Defense (DoD) Demonstration Project; and Other Miscellaneous Changes

Correction

In rule document 00-13851 beginning on page 36382 in the issue of Thursday, June 8, 2000, make the following correction:

On page 36387, in the first column, the section heading “ 1652.2161-70 ” should read, “1652.216-70 ”.

[FR Doc. C0-13851 Filed 6-23-00; 8:45 am]

BILLING CODE 1505-01-D

DEPARTMENT OF TRANSPORTATION

Federal Aviation Administration

14 CFR Part 71

[Airspace Docket No. 00-AGL-08]

Proposed Establishment of Class E Airspace; Minneapolis, Flying Cloud Airport, MN

Correction

In the correction to proposed rule document 00-8969 appearing in the issue of Friday, May 12, 2000, on page 30678, in the third column, the docket number should read as set forth above.

[FR Doc. C0-8969 Filed 6-23-00; 8:45 am]

BILLING CODE 1505-01-D

DEPARTMENT OF THE TREASURY

Internal Revenue Service

26 CFR Part 25

[TD 8886]

RIN 1545-AX07

Use of Actuarial Tables in Valuing Annuities, Interests for Life or Terms of Years, and Remainder or Reversionary Interests

Correction

In rule document 00-12986 beginning on page 36908 in the issue of Monday, June 12, 2000, make the following correction:

§25.2512-5 [Corrected]

On page 36942, the first equation, in §25.2512-5(d)(2)(C)(v)(A) Example, should read as follows:

[FR Doc. C0-12986 Filed 6-23-00; 8:45 am]

BILLING CODE 1505-01-D